Title 3—

The President

Proclamation 9079 of January 31, 2014

American Heart Month, 2014

By the President of the United States of America

A Proclamation

Maintaining a strong heart is key to a long and healthy life. The number one killer of American men and women, cardiovascular disease is responsible for one out of every four deaths in the United States. During American Heart Month, we renew our fight, both as a Nation and in each of our own lives, against the devastating epidemic of heart disease.

While anyone can develop heart disease, those with high blood pressure or high cholesterol and those who smoke are at greater risk. Risk factors like diabetes, obesity, poor diet, physical inactivity, and excessive alcohol use can also increase the likelihood of developing heart disease. By adopting a few healthy habits—getting regular exercise; not smoking; eating diets rich in fruits and vegetables and low in salt, saturated fat, and cholesterol—each of us can reduce our risk. Following health care providers' instructions can also improve heart health and lessen the chance of heart attack.

Thanks to the Affordable Care Act, millions of Americans have gained access to affordable health care coverage, including recommended preventive screenings with no out-of-pocket cost. As we improve access to coverage, my Administration remains committed to supporting scientific research and raising awareness of heart disease. In 2011, we launched Million Hearts, which aims to prevent one million heart attacks and strokes by 2017. And through First Lady Michelle Obama's Let's Move! initiative, we are helping young people make the positive choices that will keep them healthy throughout their lives.

On Friday, February 7, everyone will have the chance to show their support for heart health by observing National Wear Red Day. Michelle and I encourage Americans to wear red in solidarity with those struggling with heart disease and in acknowledgement of the hardworking health care professionals who provide life-saving treatment, research, and advice. As we honor their contributions, let us take ownership of our heart health and commit to positive lifestyles, this month and throughout the year.

In acknowledgement of the importance of the ongoing fight against cardiovascular disease, the Congress, by Joint Resolution approved December 30, 1963, as amended (77 Stat. 843; 36 U.S.C. 101), has requested that the President issue an annual proclamation designating February as “American Heart Month.”

NOW, THEREFORE, I, BARACK OBAMA, President of the United States of America, do hereby proclaim February 2014 as American Heart Month, and I invite all Americans to participate in National Wear Red Day on February 7, 2014. I also invite the Governors of the States, the Commonwealth of Puerto Rico, officials of other areas subject to the jurisdiction of the United States, and the American people to join me in recognizing and reaffirming our commitment to fighting cardiovascular disease.

IN WITNESS WHEREOF, I have hereunto set my hand this thirty-first day of January, in the year of our Lord two thousand fourteen, and of the Independence of the United States of America the two hundred and thirty-eighth.

[FR Doc. 2014-02529

Filed 2-4-14; 8:45 am]

Billing code 3295-F4